DEPARTMENT OF COMMERCE

Office of the Secretary

[Docket No.: 060615168-6243-02]

Privacy Act of 1974: System of Records

AGENCY: Department of Commerce.

ACTION: Final Notice to amend a Privacy Act System of Records: COMMERCE/DEPARTMENT-18, “Employees Personnel Files Not Covered by Notices of Other Agencies.”

SUMMARY: The Department of Commerce (Commerce) publishes this notice to announce the amendment of a Privacy Act System of Records notice entitled COMMERCE/DEPARTMENT-18, “Employees Personnel Files Not Covered by Notices of Other Agencies.”

DATES: The system of records becomes effective on October 10, 2006.

ADDRESSES: For a copy of the system of records please mail requests to Brenda Dolan, Department of Commerce Freedom of Information and Privacy Act Officer, Room 5327, 1401 Constitution Avenue, NW., Washington, DC 20230, 202-482-3258.

FOR FURTHER INFORMATION CONTACT: Brenda Dolan, Department of Commerce Freedom of Information and Privacy Act Officer, Room 5327, 1401 Constitution Avenue, NW., Washington, DC 20230, 202-482-3258.

SUPPLEMENTARY INFORMATION: On July 6, 2006, the Commerce published and requested comments on a proposed amended Privacy Act System of Records notice entitled COMMERCE/DEPARTMENT-18, “Employees Personnel Files Not Covered by Notices of Other Agencies.” No comments were received in response to the request for comments. By this notice, the Department is adopting the proposed system as final without changes effective October 10, 2006.

Dated: October 2, 2006.
Brenda Dolan,
Department of Commerce, Freedom of Information and Privacy Act Officer.

[FR Doc. E6-16693 Filed 10-6-06; 8:45 am]

BILLING CODE 3510-BW-P